DEPARTMENT OF COMMERCE

Patent and Trademark Office

37 CFR Chapter I

[Docket No. PTO-C-2011-0017]

Improving Regulation and Regulatory Review

AGENCY: United States Patent and Trademark Office, Commerce.

ACTION: Request for information.

SUMMARY: The United States Patent and Trademark Office (“USPTO” or “Office”) is preparing a preliminary plan to review its existing significant regulations in response to the President's Executive Order 13563 on Improving Regulation and Regulatory Review. The purpose of this regulatory review is to determine whether any of these regulations should be modified, streamlined, expanded, or repealed in order to make the Office's regulatory program more effective and less burdensome. More effective and less burdensome regulations will help the Office in its mission to foster innovation and competitiveness through providing high quality and timely examination of patent and trademark applications, guiding domestic and international intellectual property policy, and delivering intellectual property information and education worldwide. The Office is asking the public to provide ideas and information about preparing such a review plan and to help the Office identify which regulations should be reviewed.

DATES: You must submit any comments on or before April 21, 2011.

ADDRESSES: Submit comments electronically by e-mailing them directly to the Office at regulatory_review_comments@uspto.gov. Comments may also be submitted by mail addressed to: Office of the General Counsel, United States Patent and Trademark Office, P.O. Box 1450, Alexandria, VA 22313-1450, marked to the attention of Nicolas Oettinger. Although comments may be submitted by mail, the Office prefers to receive comments via the Internet. Comments may also be submitted through the Federal eRulemaking Portal Web site at http://www.regulations.gov. Additional instructions on providing comments through the Federal eRulemaking Portal are available at http://www.regulations.gov. All comments submitted directly to the Office or provided on the Federal eRulemaking Portal should include the docket number (PTO-P-2011-0017).

All comments will be available for public inspection upon request at the Office of the Commissioner for Patents, located in Madison East, Tenth Floor, 600 Dulany Street, Alexandria, Virginia, and will be available on the USPTO Web site at http://www.uspto.gov. All comments submitted through the Federal eRulemaking Portal will be made publicly available on that Web site. Because comments will be made available for public inspection, information that the submitter does not desire to make public, such as an address or phone number, should not be included in the comments.

FOR FURTHER INFORMATION CONTACT: Nicolas Oettinger, Office of the General Counsel, by telephone at 571-272-7832, by e-mail at nicolas.oettinger@uspto.gov, or by mail addressed to Mail Stop Comments—Patents, Commissioner for Patents, P.O. Box 1450, Alexandria, VA 22313-1450, marked to the attention of Nicolas Oettinger.

SUPPLEMENTARY INFORMATION:

On January 18, 2011, President Obama issued Executive Order 13563, Improving Regulation and Regulatory Review. In the Executive Order, the President stated:

Our regulatory system must protect public health, welfare, safety, and our environment while promoting economic growth, innovation, competitiveness, and job creation. It must be based on the best available science. It must allow for public participation and an open exchange of ideas. It must promote predictability and reduce uncertainty. It must identify and use the best, most innovative, and least burdensome tools for achieving regulatory ends. It must take into account benefits and costs, both quantitative and qualitative. It must ensure that regulations are accessible, consistent, written in plain language, and easy to understand. It must measure, and seek to improve, the actual results of regulatory requirements.

E.O. 13563, 76 FR 3281, at Section 1(a). The Executive Order directed agencies to develop and submit, within 120 days, preliminary plans for reviewing their existing “significant regulations” (as that term is defined in Executive Order 12866) and determining whether and how such regulations could be made more effective and less burdensome. The Executive Order also directed agencies to provide the public with an opportunity to participate in the regulatory process and to provide comments on the development of such a plan, and further directed that timely on-line access to the rule making docket be provided so that the public had the opportunity to comment on all pertinent parts of the rule making docket.

As the Office begins work on a preliminary plan for reviewing its existing significant regulations, it is requesting that the public participate in that process. The Office is asking the public to provide comments on how such a plan should be developed, what such a plan should include, which significant regulations should be reviewed, and how those regulations might be improved. The Office recognizes that the intellectual property community and the public in general will have useful information and opinions about how USPTO regulations can be reviewed and improved in order to best achieve its mission of promoting innovation and competition. This request for comments will help the Office gather information that will inform its decisions about developing a plan for reviewing the Office's existing significant regulations.

The Office welcomes any comments that you think might be helpful in developing a plan for reviewing significant USPTO regulations. Some questions that may be helpful to consider in preparing such comments include:

1. What is the best way for the Office to identify which of its significant regulations should be modified, streamlined, expanded, or repealed? What process should the Office use to select rules for review and how should it prioritize such review?

2. What can the Office, relative to its regulation process, do to reduce burdens and maintain flexibility for the public while promoting its missions?

3. How can the Office ensure that its significant regulations promote innovation and competition in the most effective and least burdensome way? How can these Office regulations be improved to accomplish this?

4. Are there USPTO regulations that conflict with, or are duplicative of, regulations from other agencies? If so, please identify any such rules and provide any suggestions you might have for how this conflict or duplication can be resolved in order to help the Office achieve its mission more effectively.

5. How can the Office best encourage public participation in its rule making process? How can the Office best provide a forum for the open exchange of ideas among the Office, the intellectual property community, and the public in general?

These questions are not intended to be an exhaustive list of topics for public comment. While the Office welcomes and values all comments from the public in response to this request, these comments do not bind the Office to any further actions related to the comments, and the Office may not respond to every comment that is submitted.

Dated: March 15, 2011.
David J. Kappos,
Under Secretary of Commerce for Intellectual Property and Director of the United States Patent and Trademark Office.

[FR Doc. 2011-6660 Filed 3-21-11; 8:45 am]

BILLING CODE 3510-16-P